NATIONAL TRANSPORTATION SAFETY BOARD

Sunshine Act Meeting

TIME AND DATE: 9:30 a.m. EDT, December 5, 2023.

PLACE: Virtual.

STATUS: The one item may be viewed by the public through webcast only.

MATTER TO BE CONSIDERED:

70966 Marine Investigative Report—Anchor Strike of Underwater Pipeline and Eventual Crude Oil Release, San Pedro Bay near Huntington Beach, California, October 1, 2021.

CONTACT PERSON FOR MORE INFORMATION: Candi Bing at (202) 590-8384 or by email at bingc@ntsb.gov.

Media Information Contact: Jennifer Gabris by email at jennifer.gabris@ntsb.gov or at (202) 314-6100.

This meeting will take place virtually. The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: November 9, 2023.
LaSean R. McCray,
Assistant Federal Register Liaison Officer.

[FR Doc. 2023-25173 Filed 11-9-23; 11:15 am]

BILLING CODE 7533-01-P